GENERAL SERVICES ADMINISTRATION

[Notice-WWICC-2023-01; Docket No. 2023-0003; Sequence No. 1]

World War One Centennial Commission; Notification of Upcoming Public Advisory Meeting

AGENCY: World War One Centennial Commission.

ACTION: Meeting notice.

SUMMARY: Notice of this meeting is being provided according to the requirements of the Federal Advisory Committee Act. This notice provides the schedule and agenda for the May 19, 2023, meeting of the World War One Centennial Commission (the Commission). The meeting is available to the public. Dial in information will be provided upon request.

DATES: Meeting date: The meeting will be held on Friday, May 19, 2023, starting at 11:00 a.m. EST (10:00 a.m. CST), and ending no later than 12:00 p.m. EST (11:00 a.m. CST).

ADDRESSES: This meeting will be held in person and also available virtually. The meeting will convene in person at the National World War I Museum and Memorial located at 2 Memorial Drive, Kansas City, MO 64108. Virtual attendance is by reservation. Requests for dial in information may be made to daniel.dayton@worldwar1centennial.org.

Written Comments may be submitted to the Commission and will be made part of the permanent record of the Commission. Comments must be received by 5:00 p.m. EDT, on May 12, 2023, and may be provided by email to daniel.dayton@worldwar1centennial.org.

Contact Mr. Daniel S. Dayton at daniel.dayton@worldwar1centennial.org to register to comment during the meeting's 30-minute public comment period. Registered speakers/organizations will be allowed five (5) minutes and will need to provide written copies of their presentations. Requests to comment, together with presentations for the meeting must be received by 5:00 p.m. EDT, on Friday May 12, 2023. Please contact Mr. Dayton at the email address above to obtain meeting materials.

FOR FURTHER INFORMATION CONTACT: Daniel S. Dayton, Designated Federal Officer, World War 1 Centennial Commission, 2043 Wilson Blvd., #17338, Arlington, VA 202-380-0725 (note: this is not a toll-free number).

SUPPLEMENTARY INFORMATION:

Background

The World War One Centennial Commission was established by Public Law 112-272 (as amended), as a commission to ensure a suitable observance of the centennial of World War I, to provide for the designation of memorials to the service of members of the United States Armed Forces in World War I, and for other purposes.

Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I. Further, the Commission oversees the design and construction of the national World War I Memorial in Washington, DC.

Agenda: Friday, May 19, 2023.

Old Business:

• Acceptance of minutes of last meeting.

• Public Comment Period.

New Business:

• Executive Director's Report—Executive Director Dayton.

• WWI Memorial Status Report.

• Preliminary Plan for Unveiling of central sculpture element—Ms. Meredith Carr.

Other Business:

• Chairman's Report.

• Set Next Meeting.

• Motion to Adjourn.

David Coscia,
Agency Liaison Officer, Office of Presidential & Congressional Agency Liaison Services, General Services Administration.

[FR Doc. 2023-04960 Filed 3-9-23; 8:45 am]

BILLING CODE 6820-95-P